DEPARTMENT OF TRANSPORTATION

Federal Motor Carrier Safety Administration

[Docket No. FMCSA-2026-0100]

Parts and Accessories Necessary for Safe Operation; Application for an Exemption From Grote Industries, LLC

AGENCY: Federal Motor Carrier Safety Administration (FMCSA), Department of Transportation (DOT).

ACTION: Notice of application for exemption; request for comments.

SUMMARY: FMCSA requests public comment on an application from Grote Industries, LLC (Grote) for an exemption from the requirement that exterior lighting devices on commercial motor vehicles (CMVs) be steady-burning. The exemption would allow motor carriers to operate CMVs equipped with auxiliary rear or side lamps that flash or strobe when controlled by Grote's Rear-End Collision Warning (RCW) system. FMCSA requests public comment on the applicant's request for exemption.

DATES: Comments must be received on or before March 11, 2026.

ADDRESSES: You may submit comments identified by Federal Docket Management System (FDMS) Number FMCSA-2026-0100 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, Room W12-140, 1200 New Jersey Avenue SE, between 9 a.m. and 5 p.m. E.T., Monday through Friday, except Federal holidays.

• Fax: (202) 493-2251.

Each submission must include the Agency name and the docket number (FMCSA-2026-0100) for this notice. Note that DOT posts all comments received without change to www.regulations.gov, including any personal information included in a comment. Please see the Privacy Act heading below.

Privacy Act: In accordance with 49 U.S.C. 31315(b), DOT solicits comments from the public to better inform its exemption process. DOT posts these comments, including any personal information the commenter provides, to www.regulations.gov, as described in the system of records notice DOT/ALL-14 FDMS, which can be reviewed at https://www.transportation.gov/privacy. The comments are posted without edit and are searchable by the name of the submitter.

FOR FURTHER INFORMATION CONTACT: Mr. David Sutula, Chief, Vehicle and Roadside Operations Division, Office of Carrier, Driver, and Vehicle Safety, FMCSA, at (202)-961-1373, or by email at david.sutula@dot.gov. If you have questions on viewing or submitting material to the docket, contact Dockets Operations at (202) 366-9826.

SUPPLEMENTARY INFORMATION:

I. Public Participation and Request for Comments

FMCSA encourages you to participate by submitting comments and related materials.

A. Submitting Comments

If you submit a comment, please include the docket number for this notice (FMCSA-2026-0100), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2026-0100/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov, insert FMCSA-2026-0100 in the keyword box, select the document tab and choose the document to review. To view comments, click this notice, then click “Browse Comments.” If you do not have access to the internet, you may view the docket by visiting Docket Operations on the ground floor of the DOT West Building, 1200 New Jersey Avenue SE, Washington, DC 20590-0001, between 9 a.m. and 5 p.m., ET Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved without the exemption, pursuant to the standard set forth in 49 U.S.C. 31315(b)(2). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Grote, an Indiana-based manufacturer of commercial vehicle lighting and safety equipment, has applied for an exemption from the requirements of 49 CFR 393.25(e), which generally require exterior lamps on CMVs to be steady-burning. Grote requests a five-year exemption to allow motor carriers the use of one or more non-steady-burning auxiliary lamps installed symmetrically about the vertical centerline on the rear or sides of CMVs when used in conjunction with Grote's RCW system.

Grote states that the RCW system uses rear-facing, long-range radar to calculate time-to-collision (TTC) for vehicles approaching from behind and activates auxiliary warning lamps when a collision risk threshold is reached. The system activates a signal circuit when the TTC is less than or equal to a specific safety threshold—typically between 2.1 and 4.0 seconds—which represents the average time required for a driver and vehicle to react to a hazard.

Under the request, when the RCW system detects an imminent risk, the auxiliary lamps would either be (1) red in color and flash 4-16 times within four seconds, or (2) amber in color and function as an SAE J595 Class 3 or Class 2 strobe lamp for up to four seconds. Following either initial sequence, the lamps burn steady red for the remaining duration of the warning event as long as the collision risk persists. Once the potential risk has subsided and the TTC exceeds the safety threshold, the signal circuit is deactivated, ending the warning event and turning off the auxiliary lamps.

Grote asserts that similar forward collision warning technologies have been shown by the National Highway Traffic Safety Administration and the Insurance Institute for Highway Safety to reduce rear-end crashes and contends that the RCW system would provide comparable safety benefits by reducing the frequency and severity of rear-end collisions involving CMVs. Grote emphasizes that it is not seeking relief from existing safety requirements, but rather permission to install additional safety equipment beyond that required by the Federal Motor Carrier Safety Regulations, and believes granting the exemption would achieve a level of safety equivalent to or greater than the level of safety achieved without the exemption.

A copy of Grote's application and supporting materials is available for review in the docket for this notice.

IV. Request for Comments

In accordance with 49 U.S.C. 31315(b), FMCSA requests public comment from all interested persons on Grote's application for an exemption from the requirements of 49 CFR 393.25(e).

All comments received before the close of business on the comment closing date will be considered and will be available for examination in the docket at the location listed under the ADDRESSES section of this notice. Comments received after the comment closing date will be filed in the public docket and may be considered to the extent practicable. In addition to late comments, FMCSA will also continue to file, in the public docket, relevant information that becomes available after the comment closing date. Interested persons should continue to examine the public docket for new material.

Larry W. Minor,
Associate Administrator for Policy.

[FR Doc. 2026-02522 Filed 2-6-26; 8:45 am]

BILLING CODE 4910-EX-P